FEDERAL MEDIATION AND CONCILIATION SERVICE

Notice of FMCS Convening Policy

AGENCY: Federal Mediation and Conciliation Service (FMCS).

ACTION: Notice.

SUMMARY: The Federal Mediation and Conciliation Service (FMCS) is issuing this notice to inform the public of FMCS's intent to convene parties who are currently in a work stoppage.

DATES: December 27, 2023.

FOR FURTHER INFORMATION CONTACT: Beth Schindler, bschindler@fmcs.gov, (206) 553-5801.

SUPPLEMENTARY INFORMATION: On December 7, 2023, 29 CFR part 1406 became effective. This rule provides that “FMCS may convene the parties for a threatened or actual work stoppage whenever in its judgment such dispute threatens to cause a substantial interruption of commerce” and that “FMCS will determine the date, time, place, and manner (virtual, in-person, or hybrid) of services.” 29 CFR 1406.1 (b) and (c). FMCS hereby provides notice that FMCS intends to convene parties involved in private sector work stoppages for the purposes of mediating the dispute. FMCS will convene parties for work stoppages that proceed unabated for 30 continuous calendar days or fewer, if the parties are in certain critical industries. Exceptions will apply if the work stoppage does not threaten to cause a substantial interruption of commerce. Parties will be provided written notice of the date, time, place, and manner (virtual, in-person, or hybrid) of the mediation. The parties will continue to be convened at regular intervals until the work stoppage is resolved.

Dated: December 20, 2023.
Anna Davis,
General Counsel.

[FR Doc. 2023-28460 Filed 12-26-23; 8:45 am]

BILLING CODE 6732-01-P